FEDERAL COMMUNICATIONS COMMISSION

47 CFR Part 20

[CC Docket No. 94-54; FCC 00-307]

Interconnection and Resale Obligations in the Commercial Mobile Radio Services

AGENCY: Federal Communications Commission.

ACTION: Final rule; petition for reconsideration.

SUMMARY: Through this document, the Commission denies a petition for reconsideration of previous Commission decisions in this proceeding. Petitioners request that we eliminate the exclusion of Commercial Mobile Radio Service (CMRS) from the Commission's resale rule and extend the sunset of the resale rule at least one full year beyond the successful conclusion of wireless local number portability implementation. This document responds to this petition.

FOR FURTHER INFORMATION CONTACT: Jane Phillips, 202-418-1310.

SUPPLEMENTARY INFORMATION: This is a summary of the Commission's Order on Reconsideration of the Memorandum Opinion and Order on Reconsideration in CC Docket No. 94-54 (Order) (FCC 00-307), adopted August 17, 2000, and released August 22, 2000. The complete text of this MO&O is available for inspection and copying during normal business hours in the FCC Reference Information Center, Courtyard Level, 445 12th Street, SW., Washington, DC, and also may be purchased from the Commission's copy contractor, International Transcription Services (ITS, Inc.), CY-B400, 445 12th Street, SW., Washington, DC.

Synopsis of the Order

1. In this decision, the Commission denies a petition for reconsideration of decisions contained in the Memorandum Opinion and Order on Reconsideration, 64 FR 61022, November 9, 1999 (MO&O) in this proceeding. The wireless resale rule prohibits Commercial Mobile Radio Service (CMRS) providers from unreasonably restricting resale of their services.

2. The First Report and Order, 61 FR 38399, July 24, 1996 (First R&O) in this proceeding promulgated a rule prohibiting certain CMRS providers from restricting the resale of their services during a transitional period. The First R&O extended the resale rule, which previously had applied only to cellular providers, to providers of broadband personal communications services (PCS) and certain specialized mobile radio (SMR) services. Additionally, the First R&O sunset the resale rule five years after completion of its initial grant of broadband PCS licenses, i.e., November 24, 2002.

3. The MO&O affirmed the 2002 sunset date, but modified the resale rule to exclude customer premises equipment (CPE) and CPE in bundled packages and to exclude from its scope certain C, D, E, and F block PCS licenses, as well as all CMRS providers of voice or data services that do not use in-network switching facilities.

4. MCI WorldCom filed a petition for further reconsideration requesting that the Commission eliminate the exclusion for CPE and extend the sunset at least one full year beyond the successful conclusion of wireless local number portability implementation.

5. As discussed in the full text of this Order, the Commission denies MCI WorldCom's petition for reconsideration and reaffirms its determinations to exclude CPE from the scope of the CMRS resale rule and to sunset the rule on November 24, 2002. With respect to the exclusion for certain C, D, E, and F block PCS licensees, the Order does not address what impact the Commission's ultimate decision regarding eligibility to participate in the reauction of C and F block licensees may have on the scope of the resale rule.

Regulatory Flexibility Analysis

6. The Commission has not prepared an additional Final Regulatory Flexibility Analysis of the possible impact on small entities of the Commission's decisions, as otherwise required by the Regulatory Flexibility Act, 5 U.S.C. 604, because no changes have been made in this Order to the Commission's rules or policies.

Authority

7. This action is taken pursuant to sections 1, 4(i), 4(j), 10, 201, 202, 303(r), 309, 332, and 403 of the Communications Act, 47 U.S.C. 1, 4(i), 4(j), 160, 201, 202, 303(r), 309, 332, 403.

Ordering Clauses

Accordingly, the Petition for Reconsideration filed by MCI WorldCom is denied.

Federal Communications Commission.
William F. Caton,
Deputy Secretary.

[FR Doc. 00-25807 Filed 10-6-00; 8:45 am]

BILLING CODE 6712-01-P